Title 3—

The President

Proclamation 8453 of November 13, 2009

America Recycles Day, 2009

By the President of the United States of America

A Proclamation

Every day, Americans who recycle conserve valuable resources while reducing our Nation’s carbon footprint. The reprocessing of materials is fundamental to our future prosperity, as recycling helps preserve our natural environment and sustain our economy. Recycling in the United States is a $236 billion industry, employing 1.1 million workers nationwide in 56,000 businesses. On America Recycles Day, we celebrate the individuals, communities, local governments, and businesses that recycle their waste and continually think of innovative ways to use materials that might otherwise be discarded.

Recycling improves our daily lives and helps to protect our planet for the future. Through recycling, we conserve energy, consume less of our precious natural resources, decrease the amount of waste deposited in landfills, and reduce greenhouse gas emissions. Communities across America also benefit by avoiding the pollution associated with the extraction of raw materials and their processing into finished products.

If we are to manage materials and products on a life-cycle basis, we must responsibly use and reuse our resources. Curbside recycling, electronics collection drives, community composting programs, and other similar methods contribute to the success of our efforts. Our Nation’s health and prosperity depends on the productive and sustainable use of our environment. By recommitting ourselves to recycling, we have the opportunity to secure our long-term success and ensure a bright future for the next generation of Americans.

NOW, THEREFORE, I, BARACK OBAMA, President of the United States of America, by virtue of the authority vested in me by the Constitution and the laws of the United States, do hereby proclaim November 15, 2009, as America Recycles Day. I call upon the people of the United States to observe this day with appropriate programs and activities, and I encourage all Americans to continue their recycling efforts throughout the year.

IN WITNESS WHEREOF, I have hereunto set my hand this thirteenth day of November, in the year of our Lord two thousand nine, and of the Independence of the United States of America the two hundred and thirty-fourth.

[FR Doc. E9-27860

Filed 11-17-09; 8:45 am]

Billing code 3195-W9-P